OFFICE OF NATIONAL DRUG CONTROL POLICY

Paperwork Reduction Act; 30-Day Notice

AGENCY: Office of National Drug Control Policy.

ACTION: Notice of Submission to OMB and 30-Day Public Comment Period.

SUMMARY: In accordance with the Paperwork Reduction Act of 1980, as amended (44 U.S.C. 3501 et seq.), the Office of National Drug Control Policy (ONDCP) announces that it will submit to the Office of Management and Budget (OMB) Office of Information and Regulatory Affairs (OIRA) an information collection request for processing under 5 CFR 1320.10.

SUPPLEMENTARY INFORMATION: The ONDCP Drug Free Communities (DFC) Support Program received no comments following the publication of its 60-day notice of proposed information collection. As identified in the 60-day notice, the information is currently being collected under an existing ONDCP DFC program, and no additional information will be requested from respondents. ONDCP requests that OMB review and approve the information collection request, and solicits additional comments and recommendations.

Type of Information Collection Request: Renewal request with a new class of grantees.

Titles: Drug-Free Communities (DFC) Support Program National Evaluation; Sober Truth on Preventing Underage Drinking (STOP Act) Program National Evaluation.

DFC Support Program: The DFC Support Program National Evaluation will support a rigorous evaluation and an effective grant monitoring and tracking system. The evaluation will make use of two separate collection instruments: (1) A monitoring and tracking questionnaire (online tool) will serve as a semi-annual report for DFC grantees; and, (2) a typology classification questionnaire will be used annually to classify respondents into coalition typology.

Frequency: Semi-annually and annually.

Affected Public: Anti-Drug Coalitions.

Type of Respondents: Directors of Anti-Drug Coalitions or their designees.

STOP Act Program: The STOP Act Program National Evaluation will make use of the monitoring and tracking questionnaire (online tool) to serve as a semi-annual report for STOP Act grantees and will provide information for SAMHSA.

Frequency: Semi-annually.

Affected Public: Current and former Drug Free Communities Anti-Drug Coalitions.

Type of Respondents: Directors or their designees.

Requests for Information: Direct information requests to Kenneth Shapiro at kshapiro@ondcp.eop.gov, by facsimile transmission to (202) 395-6641, or mail to Office of National Drug Control Policy, 750 17th Street, NW., Room 631, Washington DC 20503.

Comments: Submit comments within 30 days of publication to John Kraemer, Desk Officer for the ONDCP at jkraemer@omb.eop.gov, by facsimile transmission to (202) 395-6074, or mail to Office of Information and Regulatory Affairs, Office of Management and Budget, 725 17th Street, NW., Washington DC 20503.

Dated: September 17, 2008.
Daniel R. Petersen,
Assistant General Counsel.

[FR Doc. E8-22098 Filed 9-19-08; 8:45 am]

BILLING CODE 3180-02-P